DEPARTMENT OF ENERGY

Federal Energy Regulatory Commission

Combined Notice of Filings #2

Take notice that the Commission received the following electric rate filings:

Docket Numbers: ER10-2822-008; ER12-2076-005; ER11-2462-006; ER11-2463-006; ER11-2112-007; ER12-2077-005; ER12-2078-005; ER10-2828-003; ER11-2464-006; ER10-3158-006; ER10-2942-005; ER12-2081-005; ER12-2083-005; ER12-2084-005; ER10-2423-006; ER10-2404-006; ER12-2086-005; ER12-2649-003; ER10-1725-003; ER11-2465-007; ER14-2676-002; ER10-2994-013; ER11-2466-006; ER11-2467-006; ER11-2468-006; ER11-2469-006; ER11-2470-006; ER11-2471-006; ER11-2472-006; ER10-3001-004; ER10-3002-003; ER10-3004-004; ER12-308-006; ER12-2108-005; ER12-2097-005; ER12-2101-005; ER10-3162-006; ER12-422-005; ER12-2102-006; ER12-2109-005; ER11-2473-006; ER10-3010-003; ER12-2106-005; ER11-2196-007; ER10-3161-006; ER12-96-005; ER11-2474-008; ER10-3031-003; ER12-2107-005; ER11-2475-006; ER10-2285-005; ER10-2301-003; ER10-2306-003; ER10-3160-002; ER10-2812-013; ER10-1291-020; ER10-2843-012.

Applicants: Atlantic Renewables Projects II LLC, Barton Windpower LLC, Big Horn Wind Project LLC, Big Horn II Wind Project LLC, Blue Creek Wind Farm LLC, Buffalo Ridge I LLC, Buffalo Ridge II LLC, Casselman Windpower LLC, Colorado Green Holdings LLC, Dillon Wind LLC, Elk River Windfarm, LLC, Elm Creek Wind, LLC, Elm Creek Wind II LLC, Farmers City Wind, LLC, Flat Rock Windpower LLC, Flat Rock Windpower II LLC, Flying Cloud Power Partners, LLC, Groton Wind, LLC, Hardscrabble Wind Power LLC, Hay Canyon Wind LLC, Iberdrola Arizona Renewables, LLC, Iberdrola Renewables, LLC, Juniper Canyon Wind Power LLC, Klamath Energy LLC, Klamath Generation LLC, Klondike Wind Power LLC, Klondike Wind Power II LLC, Klondike Wind Power III LLC, Leaning Juniper Wind Power II LLC, Lempster Wind, LLC, Locust Ridge Wind Farm, LLC, Locust Ridge II, LLC, Manzana Wind LLC, MinnDakota Wind LLC, Moraine Wind LLC, Moraine Wind II LLC, Mountain View Power Partners III, LLC, New England Wind, LLC, New Harvest Wind Project LLC, Northern Iowa Windpower II LLC, Pebble Springs Wind LLC, Providence Heights Wind, LLC, Rugby Wind LLC, San Luis Solar LLC, Shiloh I Wind Project, LLC, South Chestnut LLC, Star Point Wind Project LLC, Streator-Cayuga Ridge Wind Power LLC, Trimont Wind I LLC, Twin Buttes Wind LLC, Central Maine Power Company, New York State Electric & Gas Corporation, Rochester Gas & Electric Corporation, The United Illuminating Company, GenConn Devon LLC, GenConn Energy LLC, GenConn Middletown LLC.

Description: Notice of Change in Status of the AVANGRID MBR Sellers.

Filed Date: 1/14/16.

Accession Number: 20160114-5314.

Comments Due: 5 p.m. ET 2/4/16.

Docket Numbers: ER12-1895-000; EL12-110-000; ER11-3657-000; EL11-64-000.

Applicants: Entergy Services, Inc.

Description: Entergy Services, Inc. submits tariff filing per 35.19a(b): Refund Report to be effective N/A.

Filed Date: 1/14/16.

Accession Number: 20160114-5336.

Comments Due: 5 p.m. ET 2/4/16.

Docket Numbers: ER15-762-006; ER15-760-005; ER15-1579-004; ER 15-1582-005; ER15-1914-006; ER15-1896-004.

Applicants: Sierra Solar Greenworks LLC, Western Antelope Blue Sky Ranch A LLC, 67RK 8me LLC, 65HK 8me LLC, 87RL 8me LLC, Eden Solar, LLC.

Description: Notice of Non-Material Change in Status of Sierra Solar Greenworks LLC, et. al.

Filed Date: 1/14/16.

Accession Number: 20160114-5315.

Comments Due: 5 p.m. ET 2/4/16.

Docket Numbers: ER16-731-000.

Applicants: Green Country Energy, LLC.

Description: Market-Based Triennial Review Filing: Green Country Energy Triennial MBR Update in Docket No. ER10-3063 to be effective 3/14/2016.

Filed Date: 1/14/16.

Accession Number: 20160114-5363.

Comments Due: 5 p.m. ET 3/14/16.

Docket Numbers: ER16-732-000.

Applicants: Consolidated Edison Company of New York, Inc.

Description: § 205(d) Rate Filing: Surcharge—Targeted Demand Management Program and Demo Projects to be effective 1/15/2016.

Filed Date: 1/14/16.

Accession Number: 20160114-5378.

Comments Due: 5 p.m. ET 2/4/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 14, 2016.
Nathaniel J. Davis, Sr.,
Deputy Secretary.

[FR Doc. 2016-01114 Filed 1-20-16; 8:45 am]

BILLING CODE 6717-01-P